DEPARTMENT OF THE INTERIOR

National Park Service

36 CFR Part 7

[NPS-GLCA-NPS0039168; NPS-2024-0005; PPIMGLCAA0.PPMPSAS1Z.Y00000-255P10361]

RIN 1024-AE91

Glen Canyon National Recreation Area; Motor Vehicles

AGENCY: National Park Service, Interior.

ACTION: Final rule.

SUMMARY: The National Park Service revises special regulations for Glen Canyon National Recreation Area to update rules about the use of motor vehicles on roads and off roads on designated routes and areas.

DATES: This rule is effective February 12, 2025. Comments on the information collection contained in this final rule should be submitted to OMB by February 12, 2025.

ADDRESSES: The comments received on the proposed rule are available on www.regulations.gov in Docket No. NPS-2024-0005.

Information Collection Requirements: Written comments and suggestions on the information collection requirements should be submitted by the date specified above in DATES to https://www.reginfo.gov/public/do/PRAMain. Find this particular information collection by selecting “Currently under Review—Open for Public Comments” or by using the search function. Please provide a copy of your comments to the NPS Information Collection Clearance Officer (ADIR-ICCO), 13461 Sunrise Valley Drive (MS-244), Herndon, VA 20171 (mail); or phadrea_ponds@nps.gov (email). Please include “1024-AE91” in the subject line of your comments.

FOR FURTHER INFORMATION CONTACT: Michelle Kerns, Superintendent, Glen Canyon National Recreation Area, P.O. Box 1507, Page, Arizona 86040, by phone at 928-608-6210, or by email at GLCA_Superintendent@nps.gov. Individuals in the United States who are deaf, deafblind, hard of hearing, or have a speech disability may dial 711 (TTY, TDD, or TeleBraille) to access telecommunications relay services. Individuals outside the United States should use the relay services offered within their country to make international calls to the point-of-contact in the United States. In compliance with the Providing Accountability Through Transparency Act of 2023, the plain language summary of the rule is available on Regulations.gov in the docket for this rulemaking.

SUPPLEMENTARY INFORMATION:

Background

Purpose and Significance of Glen Canyon National Recreation Area

Congress established Glen Canyon National Recreation Area (the recreation area) in 1972 “to provide for the public outdoor recreation use and enjoyment of Lake Powell and lands adjacent thereto in the states of Arizona and Utah and to preserve the scenic, scientific, and historic features contributing to the public enjoyment of the area.” 16 U.S.C. 460dd.

The recreation area encompasses 1,254,117 acres in northern Arizona and southeastern Utah and constitutes a substantial part of the outstanding public lands of the Colorado Plateau. The recreation area offers a natural diversity of rugged water- and wind-carved canyons, buttes, mesas, and other outstanding physiographic features. The recreation area allows for a variety of recreational opportunities, including on- and off-road motor vehicle use and contains Lake Powell, the second-largest human-made lake in North America, which provides the opportunity to recreate in a natural environment and access remote backcountry areas. Evidence of 11,000 years of human occupation and use of resources in the recreation area provides a continuing story of the prehistoric, historic, and present-day affiliation of humans and their environment.

Authority To Promulgate Regulations

The National Park Service (NPS) manages the recreation area under the NPS Organic Act (54 U.S.C. 100101 et seq.), which gives the NPS broad authority to regulate the use of the park areas under its jurisdiction. The NPS Organic Act authorizes the Secretary of the Interior, acting through the NPS, to “prescribe such regulations as the Secretary considers necessary or proper for the use and management of [National Park] System units.” 54 U.S.C. 100751(a). In the recreation area's enabling act, Congress directed the Secretary of the Interior to “administer, protect, and develop the recreation area in accordance with the [NPS Organic Act], and with any other statutory authority available to him for the conservation and management of natural resources.” 16 U.S.C. 460dd-3. These general authorities allow the NPS to regulate the use of motor vehicles within the recreation area, both on roads and off roads, and on designated routes and areas.

Executive Order 11644, Use of Off-Road Vehicles on the Public Lands, was issued in 1972 and amended by Executive Order 11989 in 1977. Executive Order 11644 requires Federal agencies to issue regulations designating specific routes and areas on public lands where the use of off-road vehicles (ORVs) may be allowed. The NPS implemented these Executive Orders, in part, by promulgating a regulation at 36 CFR 4.10 (Travel on park roads and designated routes). Under 36 CFR 4.10, the use of motor vehicles off park roads is not permitted unless routes and areas are designated for off-road motor vehicle use by special regulation. Under 36 CFR 4.10(b), such routes and areas may be designated only in national recreation areas, national seashores, national lakeshores and national preserves. This rule implements regulatory changes for certain areas where motor vehicles may be used off park roads in the recreation area in compliance with 36 CFR 4.10 and Executive Orders 11644 and 11989. The changes to motor vehicle use on roads within the recreation area are not subject to the requirements in 36 CFR 4.10(b) and the Executive Orders because they do not concern routes and areas. Paved and unpaved roads within the recreation area are referred to in this rule and defined in the regulations as “GMP roads” because they are identified in the recreation area's 1979 General Management Plan (GMP) as open to motor vehicle traffic. There are no roads within the recreation area other than GMP roads.

Current Motor Vehicle Use in the Recreation Area

In 2021, the NPS promulgated special regulations that for the first time addressed the use of motor vehicles within the recreation area (86 FR 3804). These regulations are codified at 36 CFR 7.70(f) and address the use of conventional motor vehicles, off-highway vehicles (OHVs), and street-legal all-terrain vehicles (ATVs). The regulations establish rules for the use of motor vehicles on paved and unpaved GMP roads and off roads in designated routes and areas. The regulations also contain a permit requirement for off-road motor vehicle use, motor vehicle and operator requirements, and provide the superintendent with a specific discretionary authority to establish closures, conditions, and restrictions on ORV use after taking into consideration public health and safety, natural and cultural resource protection, lake levels, and other management activities and objectives.

Litigation and Settlement Agreement

The National Parks Conservation Association filed a Complaint challenging the special regulations on January 19, 2021, which it subsequently amended on April 16, 2021. The Southern Utah Wilderness Alliance filed a Complaint on March 15, 2023, which also challenged the special regulations. It amended its Complaint on August 7, 2023. The Court consolidated the two matters and stayed the cases for settlement discussions among the parties. The Parties executed a Settlement Agreement on March 26, 2024. The court subsequently entered an Order dismissing the cases on April 10, 2024. As part of the Settlement, the NPS agreed to propose revisions to the existing special regulations.

Off-Road Vehicle Managed Plan/Final Environmental Impact Statement

In January 2017, the NPS completed an Off-Road Vehicle Management Plan/Final Environmental Impact Statement (FEIS). On August 15, 2018, the Regional Director for the Intermountain Region signed a Record of Decision (ROD) identifying the preferred alternative in the FEIS (Alternative E: Mixed Use) as the selected alternative. In support of this rule, the NPS prepared a revised Record of Decision (Revised ROD). The FEIS and the Revised ROD supersede all previous ORV management plans for the recreation area. A detailed history of prior NPS management of on- and off-road vehicle use can be found in the FEIS, which can be viewed together with the Revised ROD at https://parkplanning.nps.gov/glca by clicking any of the links entitled “Off-road Vehicle Management Plan/Environmental Impact Statement” and then the link entitled “Document List.” The FEIS analyzes the issues and environmental impacts of five alternatives for the management of on- and off-road motor vehicle use in the recreation area. Major issues analyzed in the FEIS include social and economic issues, human health and safety, wildlife, natural soundscapes, wilderness, and visitor use and experience. Impacts associated with each of the alternatives are described in the FEIS. The Revised ROD addresses the purpose and need for this rule and evaluates potential impacts from its implementation. It also further explains the baseline for evaluating the impacts of motor vehicle use in the recreation area. Appended to the Revised ROD are a revised non-impairment determination and a site-specific evaluation of motor vehicle use on off-road routes and areas in the recreation area using the criteria in section 3(a) of E.O. 11644.

Final Rule

This rule makes the following changes to the existing special regulations in 36 CFR 7.70(f).

Two changes address OHV and street-legal ATV use in the Orange Cliffs Special Management Unit, defined in the existing regulations as the area identified as the Orange Cliffs Special Management Unit in the Canyonlands National Park and Orange Cliffs Unit of Glen Canyon National Recreation Area Backcountry Management Plan (NPS 1995). The rule prohibits the use of OHVs and street-legal ATVs on an 8-mile segment of the Poison Spring Loop located on Route 633 proceeding north to Route 730 in the Orange Cliffs Special Management Unit, identified in Table 2 to paragraph (f)(4)(i) in the existing special regulations. The rule also eliminates the superintendent's ability to potentially open the upper portion of the Flint Trail in the Orange Cliffs Special Management Unit to OHVs and street-legal ATVs, as stated in Table 2 to paragraph (f)(4)(i) and paragraph (f)(4)(ii) in the existing special regulations.

Three other changes address off-road vehicle use in areas that allow for access from GMP roads to the shoreline of the lake, referred to as shoreline access areas.

One change affects the following 10 shoreline access areas that are identified in table 1 to paragraph (f)(3)(ii) of the existing special regulations: Lone Rock Beach, Blue Notch, Bullfrog North and South, Crosby Canyon, Dirty Devil, Farley Canyon, Hite Boat Ramp, Red Canyon, Stanton Creek, White Canyon. The rule separates the existing shoreline access area at Bullfrog North and South into two shoreline access areas, one for Bullfrog North and another for Bullfrog South. The rule requires the superintendent to identify lake elevation levels at each of the 11 shoreline access areas where, if the lake elevation drops below the identified level and remains below the identified level for seven consecutive days, the shoreline access area will close to off-road motor vehicle use. Inversely, if the lake elevation increases above the identified level and remains above the identified level for seven consecutive days, the shoreline access area will open to off-road vehicle use.

The rule requires the superintendent to use hydrologic data from the United States Geological Survey and the Bureau of Reclamation to set the lake elevation levels, which will be subject to change based upon public health and safety, natural and cultural resource protection, and other management activities and objectives. The rule requires the elevation levels to be published on the recreation area's website and listed in the superintendent's compendium for the recreation area. The superintendent's compendium is a written compilation of all the designations, closures, permit requirements and other restrictions imposed under discretionary authority, required by 36 CFR 1.7(b). After the lake elevation drops below or rises above the identified level, and the seven-day waiting period has concluded, the rule requires the superintendent to identify the shoreline access area as open or closed to off-road vehicle use on the website for the recreation area and in the superintendent's compendium within 14 days after the expiration of the seven-day waiting period. The rule requires the NPS to install signs at each shoreline access area notifying the public that it is opened or closed to off-road motor vehicle use. When a shoreline access area is closed because lake elevations have dropped, the rule also requires the NPS to consider additional steps to prevent off-road vehicle use in the area, such as the installation of gates. The rule clarifies that motor vehicle use on a GMP road may continue within a closed shoreline access area at the discretion of the superintendent, and subject to the rules for operating a motor vehicle on such roads in the special regulations.

A second change related to shoreline access areas adds a statement in the regulations that off-road vehicle use in any of those areas, including the shoreline access areas identified in table 1 to paragraph (f)(3)(ii) of the existing special regulations that are not subject to closure based upon lake elevation, must be for the purpose of traveling from a GMP road to the shoreline, and back. This draws a clear distinction between the purpose of off-road vehicle use in shoreline access areas and the purpose of off-road vehicle use in Lone Rock Beach, Lone Rock Beach Play Area, and Ferry Swale, which are identified in table 1 to paragraph (f)(3)(ii), but not considered shoreline access areas. Lone Rock Beach is a developed area with a year-round campground and visitor activities associated with that use. Lone Rock Beach Play Area is a fenced location open to dispersed, high-intensity ORV use. Ferry Swale is a network of approximately 21 miles of off-road vehicle routes that does not provide access to the lake.

The existing regulations in paragraph (f)(6)(i) require the superintendent to provide public notice of closures, conditions or restrictions on ORV use through one or more of the methods listed in 36 CFR 1.7. A third change affecting shoreline access areas requires the superintendent, in every case, to publish notice of all such actions on the recreation area's website.

This final rule also prohibits OHV and street-legal ATV use on the following unpaved GMP roads in the Recreation & Resource Utilization Zone that is defined in the GMP:

• Unnamed road near Dry Mesa/Sheep's Canyon near Hite, sometimes referred to as Dry Mesa Road (approximately 4.31 miles).

• Road #2/95 Spur near Hite, also known as Dirty Devil Spur (approximately 1.14 miles).

• Cove Canyon Spur Road near Hite (approximately 0.65 miles).

• Flint Trail Spur Road near Hite, also known as Waterhole Flat Spur #1 Road & Dark Canyon Overlook Road (approximately 0.72 miles).

• Ticaboo Mesa Road near Bullfrog (approximately 1.45 miles).

• Muley Point Road (approximately 1.26 miles).

• Johns Canyon Road near Muley Point (approximately 7.49 miles).

This final rule also changes the quiet hours in the Lone Rock Beach Play Area from 10 p.m. to 6 a.m., in the existing regulations, to sunset to sunrise in the final rule. The superintendent retains the authority to lengthen the quiet hour time-period.

Finally, this final rule removes two sentences in paragraphs (f)(2)(i) and (f)(3)(ii) stating that certain regulations are effective beginning on May 17, 2021. This date has passed and therefore these statements are obsolete and unnecessary.

Summary of Public Comments

The NPS published a proposed rule in the Federal Register on September 16, 2024 (89 FR 75511). The NPS accepted public comments on the proposed rule for 60 days via the mail, hand delivery, and the Federal eRulemaking Portal at https://www.regulations.gov. Comments were accepted through November 15, 2024. The NPS received 2,351 comments on the proposed rule, including one letter-writing campaign with over 2,180 submissions. The NPS received comments from the State of Utah, county governments, advocacy groups, and private individuals. After considering public comments and after additional review, the NPS made one change to the proposed rule. The NPS has removed a proposed revision to paragraph (f)(2)(ii) in the existing special regulations that would have replaced the reference to a “special use permit” with a general reference to a “permit.” This proposed change is not part of the Settlement Agreement and therefore does not need to be included in this rule. Summaries of pertinent issues raised in the comments and NPS responses are provided below.

1. Comment: One commenter expressed concern about the impact of the rule on Kane County roads that run through the recreation area and requested that the NPS seek input and coordinate with county officials before making changes that would impact use of those roads.

NPS Response: The NPS values its partnerships with State, county and local governments and has endeavored to keep all partners informed and engaged in the planning and rulemaking processes that have occurred since the initial ORV planning stages in 2012. The NPS looks forward to continued discussions with its many partners and stakeholders during the implementation of this rule.

2. Comment: Several commenters asked the NPS to further explain the purpose and need for this rule. In particular, commenters asked the NPS to identify adverse impacts to resources (e.g., soil, vegetation, wildlife, watershed) and visitors (e.g., for recreation and access) caused by existing motor vehicle use that support the restrictions in this rule. Several commenters asked the NPS to compare impacts from OHVs and street-legal ATVs with impacts from conventional motor vehicles in a manner that supports the different treatment of those vehicle categories in this rule. Another commenter asked the NPS to share key research supporting the need for the rule.

NPS Response: Independent of the litigation, the NPS believes that the changes to the special regulations in this rule are appropriate for the reasons provided below. These changes are targeted, small in scale, and balance recreational interests from various user groups with resource protection. The large majority of the existing regulations will remain the same, including designated routes and areas for ORV use, permit requirements, and motor vehicle operator requirements (e.g., speed limits and equipment requirements).

Eliminating OHV and street-legal ATV use in the Orange Cliffs Special Management Unit will better implement portions of the 1995 Backcountry Management Plan. The NPS developed this inter-park management plan to increase consistency and protection for visitors to both the Maze District of Canyonlands National Park (where OHVs and street-legal ATVs are prohibited) and the Orange Cliffs Special Management Unit. This change also will better implement the direction in the GMP that the NPS manage the Orange Cliffs Special Management Unit to maintain a relatively primitive, undeveloped atmosphere.

The changes related to shoreline access areas largely implement current management practices. Shoreline access area boundaries are defined by topographical features (e.g., water lines and sandstone cliffs) that prevent motor vehicles from leaving designated areas. Low water levels expose travel corridors that would otherwise be blocked by topographical features, allowing users to leave designated shoreline access areas with resulting damage to resources (e.g., soils, cultural and paleontological resources, and soundscapes). The FEIS identifies closures as an ORV management strategy to address decreasing lake elevations. The NPS already uses lake elevations as a management guide for motor vehicle use in shoreline access areas, and closes shoreline access areas using the discretionary authority of the superintendent in the existing regulations. This rule creates an explicit process for implementing closures due to low lake elevations, which will better inform visitors of potential closures and protect resources. This management tool will allow the NPS to respond to dramatic lake elevation changes that occur on Lake Powell (up to 75 feet annually) and facilitate active management of shoreline access areas.

Shoreline access areas are identified in the GMP and FEIS as a mechanism to facilitate access to the lake for recreation. Shoreline access areas were never contemplated or designed for dispersed driving. This change will help fulfill the original purpose of shoreline access areas and communicate that purpose to the public.

Eliminating OHV and street-legal ATV use on the subset of unpaved roads outside of the Orange Cliffs Special Management Unit will more closely align the regulations with zoning prescriptions in the GMP, which limit impacts to soundscapes in Natural Zones within the recreation area. The unpaved roads that would be affected by this rule are located close enough to Natural Zones such that the use of OHVs and street-legal ATVs on those roads would create adverse impacts to the soundscapes in those zones.

Establishing longer quiet hours in the Lone Rock Beach Play Area may reduce conflict between user groups, improve visitor safety, and better protect wildlife.

For more information about the purpose and need for the rule and associated environmental impacts, the public can view the FEIS and Revised ROD, which can be viewed on the NPS planning site at https://parkplanning.nps.gov/glca by clicking any of the links entitled “Off-road Vehicle Management Plan/Environmental Impact Statement” and then the link entitled “Document List.” The NPS evaluates impacts to resources in the recreation area from all categories of motor vehicle use in both documents. The FEIS contains an executive summary that presents an abbreviated version of the issues, research and analysis that informed the decision-making process, as well as provides a comparison between the alternatives considered.

3. Comment: Several commenters stated that the NPS has no authority to restrict travel on roads to which the State of Utah or county governments have a claim under Revised Statute 2477 (R.S. 2477) and asked the NPS recognize claimed R.S. 2477 rights. One commenter asserted that the NPS should consult with the State of Utah before asserting jurisdiction over such roads. Another commenter asked the NPS to defer any restrictions or closures on roads subject to R.S. 2477 claims until the courts resolve the merits of such claims. Roads identified in such comments that will be affected by this rule include the Flint Trail, Poison Spring Loop, and Cove Canyon Spur Road.

NPS Response: The NPS has broad authority to regulate motor vehicle use within the recreation area. The changes in this rule do not close any roads within the recreation area; they prohibit certain categories of motor vehicles on a small subset of roads. Claims by the State of Utah and county governments under R.S. 2477 within the recreation area have not been adjudicated. The NPS will evaluate the legal effects of any future court decisions regarding R.S. 2477 claims at the appropriate time. Under the Quiet Title Act, “[t]he United States shall not be disturbed in possession or control of any real property involved in any action . . . pending a final judgment or decree, the conclusion of any appeal therefrom, and [for] sixty days [thereafter]. . . .” 28 U.S.C. 2409a(b).

4. Comment: Several commenters stated that the restrictions on motor vehicle use in this rule are contrary to Congressional intent that the NPS manage the recreation area for the purpose of ensuring public access to outdoor recreation and enjoyment. Other commenters stated that there is no basis in the recreation area's enabling act to manage categories of motor vehicles differently.

NPS Response: Congress established the recreation area in 1972 to “provide for public outdoor recreation use and enjoyment of Lake Powell and lands adjacent thereto in the states of Arizona and Utah and to preserve the scenic, scientific, and historic features contributing to the public enjoyment of the area.” 16 U.S.C. 460dd(a) The enabling act also provides that “[t]he Secretary shall administer, protect, and develop the recreation area in accordance” with the NPS Organic Act “and with any other statutory authority available . . . for the conservation and management of natural resources.” Id. at § 460dd-3. These general authorities, among others, instruct the NPS to provide public recreation opportunities while regulating and administering the recreation area in a manner that complies with the NPS Organic Act and conserves natural resources. Thus, the NPS has broad discretion to manage categories of motor vehicles differently. The FEIS and Revised ROD explain why the potential impacts to resources and visitors are different between conventional motor vehicles, on the one hand, and OHVs and street-legal ATVs, on the other hand. OHVs and street-legal ATVs produce more noise than conventional motor vehicles, creating greater impacts on soundscapes. In addition, OHVs and street-legal ATVs generally are more capable of traveling off unpaved roads and directly over undisturbed natural terrain compared to conventional motor vehicles. This creates the potential for greater impacts to natural resources in those areas.

5. Comment: One commenter argued that the rule bypasses the authority held by Congress to designate wilderness areas by limiting motorized access in the Orange Cliffs Management Unit.

NPS Response: Prohibiting OHVs and street-legal ATVs cannot be considered a de facto designation of the Orange Cliffs Management Unit as wilderness. The regulations will continue to allow conventional motor vehicles on unpaved GMP roads within the Orange Cliffs Management Unit. Motor vehicle use is prohibited in designated wilderness and this rule does not change that. Neither the rule nor the existing regulations address any of the other prohibited uses in the Wilderness Act, such as motorized equipment, commercial activities, landing of aircraft, mechanical transport, structures, or installations.

6. Comment: One commenter asserted that E.O. 11644 precludes the NPS from considering the impacts of motor vehicles, in particular OHVs and street-legal ATVs, on the soundscape of the recreation area because that term is not mentioned in the E.O., unlike other resources such as soil, vegetation, and wildlife. This commenter also suggested that the NPS decrease the maximum decibel level limit in the existing regulations as a more effective way to protect soundscapes than placing new restrictions on OHVs and street-legal ATVs. The commenter stated that the rule will be ineffective in protecting soundscapes because conventional motor vehicles can produce noise levels equal to or exceeding the levels produced by the other OHVs and street-legal ATVs.

NPS Response: Soundscapes are a resource the NPS manages, with a goal of preserving, to the greatest extent possible, natural soundscapes within System units. NPS Management Policies 2006, Section 4.9. The NPS has committed to restoring the natural soundscape condition wherever possible when soundscapes have been degraded by unnatural sounds (noise) and will protect natural soundscapes from unacceptable impacts. While true that Executive Order 11644 does not specifically identify “soundscape” as a resource, it does require Federal agencies to consider harassment of wildlife, disruption of wildlife habitat, conflicts with other recreational users, and the compatibility of those uses. Further, it requires agencies to determine that designated locations for ORV use will not adversely affect their natural, aesthetic, or scenic values. The NPS considers soundscapes as a natural value of the recreation area. Therefore, the NPS considers noise as part of that analysis. Reducing the maximum 96 decibel of sound limit in the existing regulations would functionally preclude the use of many OHVs and street-legal ATVs in the recreation area. It also would be too broad of a prescription because in some locations noise output up to that level may be appropriate. As explained in the FEIS, OHVs and street legal ATVs generally have greater noise impacts than conventional motor vehicles.

7. Comment: Several commenters stated that NPS regulations for managing motor vehicle use in the recreation area should avoid conflict with State of Utah and county laws and policies. One commenter cited conflict with the San Juan County Travel Plan which recognizes Johns Canyon Road, Muley Point Road, and Dry Mesa Road as open to all classes of vehicles. Several commenters cited conflict with State of Utah motor vehicle law which allows off-highway vehicles on public highways designated as open by the controlling Federal, State, country, or municipal agency. State of Utah Code 41-22-10.1.

NPS Response: The NPS recognizes the value of consistent management among Federal and State jurisdictions. NPS regulations adopt non-conflicting State law for traffic and the use of motor vehicles in all National Park System units, including the recreation area. See 36 CFR 4.2(a). In some situations, however, it may be necessary for NPS regulations to conflict with State and local laws or policies in order to comply with Federal law and policy. As the controlling agency for the management of lands within the recreation area, the NPS has a legal responsibility to manage the recreation area in accordance with the enabling act, which requires the NPS to administer, protect, and develop the recreation area in accordance with the NPS Organic Act for the conservation and management of natural resources. The NPS believes that the restrictions in this rule on the use of OHVs and street-legal ATVs on certain unpaved roads within the recreation area are appropriate. This is further explained in the Revised ROD. The NPS made substantial effort to ensure that the changes in this rule are minor alternations to the existing regulations that implement the preferred alternative in the FEIS.

8. Comment: One commenter stated that prohibiting OHVs and street-legal ATVs on Johns Canyon Road limits the ability of the State of Utah Trust Lands Administration to derive the full economic benefit of State trust lands from recreational and other revenue generating activities.

NPS Response: The NPS recognizes the importance of allowing the residents of the State of Utah to derive economic benefit from State trust lands and does not believe that this rule will eliminate the economic value of State trust lands accessible by Johns Canyon Road. This road will continue to be open to conventional motor vehicles as a means of accessing adjacent trust lands. The NPS is willing to discuss access to and activities on State trust lands to the extent a written authorization from the NPS, or cooperation between the NPS and the Trust Lands Administration, is necessary or appropriate.

9. Comment: One commenter suggested that the NPS change quiet hours in the Lone Rock Beach Play Area to 30 minutes before sunset and after sunrise to further enhance the enjoyment of watching those events.

NPS Response: The decision to set quiet hours to sunrise and sunset generally lengthens quiet hours compared to the existing regulations, which will allow for more tranquil experiences during those events. It further will allow quiet hours to shift with the seasons without the need for administrative actions. Adding 30-minute buffers on either side of sunset and sunrise will complicate the public's understanding of when quiet hours begin and end and may increase the potential for misunderstanding and visitor conflict.

10. Comment: Several commenters objected to the NPS closing shoreline access areas when lake elevations drop. One commenter argued that this would unfairly limit access to Lake Powell when other visitor activities on the water, such as boating and operating generators to power houseboats, have greater impacts to the natural environment than ORV use. Other commenters stated that certain shoreline access areas, such as Farley Canyon, Blue Notch Canyon, Red Canyon, and White Canyon should remain open because they provide wild camping experiences that are not available at more accessible shoreline access areas. Another commenter specifically asked the NPS to keep Blue Notch Canyon open at any lake elevation because it is the only northern vehicle-access point for small boat launching and shore camping.

NPS Response: The NPS established the boundaries of shoreline access areas utilizing topographical and bathymetric data to identify confining barriers for motorized vehicle traffic. The NPS designed shoreline access to accommodate access at higher lake levels, accounting for only small fluctuations in surface elevations. When lake levels recede to certain elevations, alternative travel corridors can become exposed, allowing motorized vehicle users to leave designated areas and potentially cause resource impacts. Persistent drought over the last two-and-a-half decades, however, has resulted in a steady decline of the level of the lake, which has receded well below the original boundaries of many of the shoreline access areas at the water's edge. In some situations, the water level has migrated miles away from the defined use areas. Some shoreline access areas, therefore, have been temporarily closed to discourage creation of networks of unauthorized secondary routes as users chase receding water levels. These closures protect vegetation and wildlife that are recolonizing exposed areas, protect cultural resources (e.g., archeological sites) that may be exposed by receding water levels, protect natural and cultural resources in adjacent areas that have become accessible, and promote visitor safety by keeping visitors away from locations that have not been determined safe for ORV use. Should lake levels rebound, the shoreline access areas subject to temporary closures in this rule would reopen. Stanton Creek remains open and provides the opportunity for wild camping experiences.

11. Comment: One commenter suggested that the NPS limit the number of ORVs allowed in shoreline access areas to prevent accelerated erosion, which could lead to runoff and increased water pollution, significantly affecting the habitats and wildlife in the recreation area. Several commenters expressed concern that OHV users may disregard the rules and urged the NPS to regularly monitor wildlife and habitat quality in areas affected by this rule to evaluate its effectiveness.

NPS Response: This rule does not limit the number of ORVs that can enter shoreline access areas, which was not contemplated by any of the alternatives evaluated in the FEIS. The NPS monitors the degradation of resources, including soil erosion, wildlife, and wildlife habitat, in shoreline access areas and other locations within the recreation area. If the NPS observes substantial negative impacts to the resources at any shoreline access area, it may take mitigation measures that could include a temporary closure of the affected area for recovery and rehabilitation.

12. Comment: One commenter stated that the NPS should reopen the Crosby Canyon shoreline access area because the closure is preventing the use of roads below the high-water line.

NPS Response: When the Crosby Canyon shoreline access area is open, limited driving beyond direct travel from Crosby Canyon Road is allowed to access the adjacent shoreline when water is present there. Any other “roads” or routes within the shoreline access area are unauthorized and user-created. This shoreline access area is currently closed due to low water levels for the reasons explained above.

13. Comment: One commenter stated that temporarily closing shoreline access areas results in congestion and overcrowding in the areas that remain open, exacerbating impacts to the environment in those areas. Keeping shoreline access areas open would disperse use across multiple managed access points and discourage users from creating non-designated routes to access the shoreline.

NPS Response: The NPS has not observed high levels of congestion in the shoreline access areas that remain open. Temporary closures of shoreline access areas when lake elevations drop are necessary to protect resources and visitors for the reasons explained above.

14. Comment: One commenter stated that limiting ORV use to direct travel from a road to the shoreline and back significantly limits the utility and value of shoreline access because they will no longer provide meaningful and practical access to the water's edge. Instead, and to meet public demand, this commenter recommended the designation of routes that lead to the shoreline.

NPS Response: The purpose of shoreline access areas is to provide motorized vehicle access to the edges of Lake Powell; they are not intended to provide general overland driving opportunities that are available elsewhere, such as the Lone Rock Beach Play Area. Dramatically fluctuating water levels at Lake Powell can significantly alter the area of beach exposed as dry lakebed. This is especially true in locations with a relatively flat shoreline where the water's edge can rise and recede great distances over the course of a normal water year. Because of these fluctuations, and the visual impacts associated with signage and barriers on open, exposed landscapes, designating travel routes within a shoreline access area is challenging and often impracticable. NPS will continue placing signage and other interpretive tools at shoreline access areas where appropriate.

15. Comment: Several commenters stated that OHVs and street-legal ATVs are purpose-built and optimized for travel on rugged backcountry roads (including the Flint Trail and Poison Spring Loop) and for that reason are safer than conventional motor vehicles on those roads. Another commenter stated that OHVs and street-legal ATVs are designed for backcountry conditions and are more capable of navigating steep and uneven terrain than conventional high-clearance vehicles. These commenters stated that prohibiting their use on unpaved roads may increase the likelihood of accidents and stranding.

NPS Response: Conventional motor vehicles can be sufficiently capable of travel on unpaved roads within the recreation area, especially when they are properly equipped and operated. There is insufficient data available to conclude that conventional motor vehicles are less safe than OHVs and street-legal ATVs at low speeds. The off-road capabilities of OHVs and street-legal ATVs create the opportunity to take them off-road for driving directly over undisturbed natural terrain, creating the potential for significant impacts to natural resources in those locations.

16. Comment: One commenter argued that prohibiting OHVs and street-legal ATVs on certain roads, such as the Cove Canyon Spur Road near Hite, Ticaboo Mesa Road, and the 8-mile segment of the Poison Spring Loop, will sever connectivity between NPS-managed lands and adjacent lands administered by the Bureau of Land Management (BLM). In particular, this commenter stated that closure of the Cove Canyon Spur Road will make BLM-managed lands within the Henry Mountain Travel Management Area inaccessible to OHVs and street-legal ATVs. This commenter argued that these closures undermine BLM travel planning and restrict lawful access to adjacent BLM-managed areas, imposing burdens on land use outside of NPS jurisdiction. Several commenters asked the NPS to explain whether it has coordinated with BLM about road closures that will impact BLM lands.

NPS Response: This rule only applies to NPS-administered lands. The rule will restrict the categories of vehicles that may travel on some unpaved roads within the recreation area that connect to adjacent BLM lands. This could affect how certain visitors travel between the recreation area and those adjacent lands, but will not interfere with any administrative action taken by BLM on lands administered by that agency. The NPS regularly coordinates with BLM on respective travel management plans (most recently in September 2024) and attempts to stay aligned when possible, recognizing that different laws and policies guide visitor use management for each agency. Cove Canyon Spur Road connects with a county-maintained road on BLM lands that is open to conventional motor vehicles, OHVs, and street-legal ATVs. This road is less than one mile in length and does not connect with any other roads outside of the recreation area. Visitors will still be able to use OHVs and street-legal ATVs on this road segment provided they are hauled there on Cove Canyon Spur Road using conventional motor vehicles. Notwithstanding any effect this rule may have on motorized use of that road, the NPS believes that the restrictions in this rule on Cove Canyon Spur Road are necessary under the distinct legal and policy framework governing NPS management of the recreation area. Ticaboo Mesa Road does not connect with an open route on BLM lands. Travelers can access the BLM portions of the Poison Spring Loop using OHVs and street-legal ATVs without having to travel through the recreation area.

17. Comment: Commenters raised concerns that the rule creates an environmental justice issue by restricting access to public lands for economically disadvantaged visitors who depend on OHVs and street-legal ATVs.

NPS Response: As discussed in the FEIS, the NPS does not believe that this rule disproportionally affects economically disadvantaged individuals or communities. Over 250 miles of road in the recreation areas will continue to be open to OHVs and street-legal ATVs.

18. Comment: Several commenters noted that ORV routes are the only way for individuals with limited mobility to access certain areas. They expressed concern that prohibiting OHVs and street-legal ATVs on certain roads would restrict access for people with disabilities and limit their recreational opportunities.

NPS Response: The NPS strives to create opportunities for recreation and access to National Park System units for all types of visitors, including those with limited mobility and disabilities. Conventional motor vehicles will continue to be allowed on all paved and unpaved roads within the recreation area. This will allow persons with limited mobility and disabilities to use motor vehicles to access and enjoy the recreation area. Consistent with the Rehabilitation Act of 1973 and other applicable laws, NPS makes all practicable efforts to make NPS facilities and programs accessible and usable by all people, including those with disabilities. NPS addressed these concerns in the FEIS, see p. A-19.

19. Comment: Many commenters expressed concern that this rule will eliminate opportunities for access and recreation throughout the recreation area. One commenter stated that certain unpaved roads themselves hold historical and cultural significance tracing back to paths used by early settlers and indigenous communities and that closing these roads would diminish public access to lands that communities have relied upon for generations, permanently disconnecting them from these important cultural landscapes. Another commenter asserted that prohibiting OHVs and street-legal ATVs on certain unpaved roads, such as Johns Canyon, Muley Point, and Dry Mesa, will reduce opportunities for recreation and access to some of the most scenic areas of San Juan County.

NPS Response: This rule will not close any unpaved roads within the recreation area to motor vehicle traffic. Conventional motor vehicles will continue to be allowed on all paved and unpaved roads within the recreation area, providing a viable means of recreation and motorized access to points of interest, scenic landscapes, dispersed camping, remote areas, and areas of historic and cultural significance. The use of OHVs and street-legal ATVs will continue to be allowed on the vast majority of unpaved roads within the recreation area. The roads that will be closed to these vehicle categories account for 25 of 295 miles (or approximately eight percent) of all the unpaved roads open to motor vehicle use in the recreation area. Substantial opportunities for motorized recreation will remain available to those and other user groups. Motorized recreation and access (particularly to the shoreline of the lake) were recognized by Congress when it established the recreation area. This rule preserves motorized use in the recreation area in balance with limited measures that protect resources and other visitor experiences. In general, conditions on Johns Canyon Road, Muley Point Road, and Dry Mesa Road do not require the use of an OHV or street-legal ATV in order to access scenic areas that they access and traverse. These roads normally accommodate a variety of conventional motor vehicle types which will continue to provide recreational and scenic opportunities within San Juan County. As discussed in the FEIS, other roads with strong cultural and historical significance, such as Hole in the Rock Road, will remain open to conventional vehicles, OHVs, and street-legal ATVs in order to accommodate access to these popular driving destinations for local residents and tourists.

20. Comment: Several commenters stated that prohibiting OHVs and street-legal ATVs on the 8-mile segment of the Poison Spring Loop creates an unreasonable barrier in the middle of a critical road. Several commenters expressed concern that closing the 8-mile segment of the Poison Spring Loop will create a dangerous situation for anyone using an OHV or street-legal ATV to complete an overland trip from the northern Poison Spring Loop down to Hite. These commenters stated that the only alternative route is to travel for 40 miles on a State highway (Utah State Route 95) from Hanksville to Hite that is very dangerous for slower vehicles.

NPS Response: Before 2021, the 8-mile segment of the Poison Spring Loop in the recreation area had never been open to OHV and street-legal ATV use. This segment is not a historic or customary travel corridor or traffic route for these categories of vehicles and will remain open for travel by conventional motor vehicles. The NPS acknowledges that several commenters perceive travel on Utah State Route 95 as more dangerous using OHVs or street-legal ATVs compared to conventional motor vehicles. Rules about the types of vehicles that are allowed on that highway are established by the State of Utah. This rule will result in the same trip planning options that existed before 2021 and does not force anyone to use OHVs or street-legal ATVs on the highway if they feel that it would be unsafe.

21. Comment: Several commenters stated that restricting OHV and street-legal ATV use will reduce tourism opportunities for motorized recreation and hurt the local economies of nearby communities, including Hanksville, Ticaboo, Blanding, Escalante, Torrey, and Boulder. One commenter highlighted the rapid growth of the OHV market in Utah and urged the NPS to keep roads open to support this industry. This commenter stated that Hite is an ideal basecamp for commercial OHV and street-legal ATV tours, and that the NPS may have difficulty attracting concessioners if revenue opportunities are restricted.

NPS Response: The NPS values its relationship with nearby communities and appreciates the importance of tourism for local economies. There are currently two businesses that have a commercial use authorization (CUA) to provide guided tours using OHVs and street-legal ATVs in the recreation area. These businesses are not authorized to operate in the Orange Cliffs Special Management Unit and do not currently offer tours on the unpaved roads that will be affected by this rule. No other businesses offer commercial visitor services that will be affected by this rule. As stated above, use of OHVs and street-legal ATVs will continue to be allowed on the vast majority (92%) of unpaved roads currently open to motor vehicle use within the recreation area. There will continue to be ample opportunities for motorized recreation within the recreation area using various categories of vehicles. There will continue to be opportunities for small businesses to apply for CUAs to provide commercial visitor services, including guided ORV tours, within the recreation area where appropriate and in accordance with applicable law and policy.

22. Comment: Commenters voiced concerns about compliance with ORV regulations and proposed several methods for the NPS to improve it. Recommended methods included (1) developing an in-person and online public education program to explain the environmental rationale for the new rules and state which shoreline access areas are open or closed to motorized use; (2) improving signage that details allowed activities on ORV routes, areas, and roads; (3) guidance on what is allowed in both open and closed shoreline access areas; and (4) utilizing multilingual information on signs, websites, and social media to communicate closures and regulatory requirements.

NPS Response: The NPS currently engages in a variety of methods to communicate ORV information to the public. The recreation area website hosts information on closures and features a short video to educate ORV users on the rules and responsibilities for all vehicle operators. The NPS has developed geo-enabled electronic files that visitors can view on the website or offline in third party apps for use in the field on mobile devices. Implementation of the FEIS includes posting signs that designate routes and aid users in recognition of authorized vehicle types for each ORV-use location. The NPS publicizes closures and openings of roads, routes, and shoreline access areas through press releases, notifications to partners, and website and social media updates.

Compliance With Other Laws, Executive Orders, and Department Policy

Use of Off-Road Vehicles on the Public Lands (Executive Orders 11644 and 11989)

Executive Order 11644, as amended by Executive Order 11989, was adopted to address impacts on public lands from ORV use. The Executive Order applies to ORV use on Federal public lands that is not authorized under a valid lease, permit, contract, or license. Section 3(a)(4) of Executive Order 11644 provides that ORV “[a]reas and trails shall be located in areas of the National Park System, Natural Areas, or National Wildlife Refuges and Game Ranges only if the respective agency head determines that off-road vehicle use in such locations will not adversely affect their natural, aesthetic, or scenic values.” Since the E.O. clearly was not intended to prohibit all ORV use everywhere in these units, the term “adversely affect” does not have the same meaning as the somewhat similar terms “adverse impact” and “adverse effect” used in the National Environmental Policy Act of 1969 (NEPA). In analyses under NEPA, a procedural statute that provides for the study of environmental impacts, the term “adverse effect” includes minor or negligible effects.

Section 3(a)(4) of the Executive Order, by contrast, concerns substantive management decisions and must be read in the context of the authorities applicable to such decisions. Glen Canyon National Recreation Area is an area of the National Park System. Therefore, NPS interprets the Executive Order term “adversely affect” consistent with its NPS Management Policies 2006. Those policies require that the NPS only allow “appropriate use” of parks and avoid “unacceptable impacts.”

This rule is consistent with the requirements of Executive Order 11644 in the context of these authorities and policies. Supporting analysis for this determination can be found in the FEIS and Revised ROD, which includes a revised non-impairment determination and a site-specific evaluation of motor vehicle use on off-road routes and areas in the recreation area using the minimization criteria in section 3(a) of E.O. 11644.

Section 8(a) of the Executive Order requires agency heads to monitor the effects of ORV use on lands under their jurisdictions. On the basis of information gathered, agency heads may from time to time amend or rescind designations of areas or other actions as necessary to further the policy of the Executive Order. The preferred alternative in the FEIS that was selected in the related 2017 Record of Decision includes monitoring and resource protection procedures and periodic review to provide for the ongoing evaluation of impacts of motor vehicle use on protected resources. This ongoing adaptive management and monitoring protocol will continue under this final rule. The superintendent retains authority to take appropriate action as needed to protect the resources of the recreation area.

Regulatory Planning and Review (Executive Orders 12866 and 13563 and 14094)

Executive Order 12866, as amended by Executive Order 14094, provides that the Office of Information and Regulatory Affairs (OIRA) in the Office of Management and Budget will review all significant rules. OIRA has determined that the final rule is not significant.

Executive Order 14094 amends Executive Order 12866 and reaffirms the principles of Executive Order 12866 and Executive Order 13563 and states that regulatory analysis should facilitate agency efforts to develop regulations that serve the public interest, advance statutory objectives, and be consistent with Executive Order 12866, Executive Order 13563, and the Presidential Memorandum of January 20, 2021 (Modernizing Regulatory Review). Regulatory analysis, as practicable and appropriate, shall recognize distributive impacts and equity, to the extent permitted by law.

Executive Order 13563 reaffirms the principles of Executive Order 12866 while calling for improvements in the nation's regulatory system to promote predictability, to reduce uncertainty, and to use the best, most innovative, and least burdensome tools for achieving regulatory ends. Executive Order 13563 directs agencies to consider regulatory approaches that reduce burdens and maintain flexibility and freedom of choice for the public where these approaches are relevant, feasible, and consistent with regulatory objectives. Executive Order 13563 emphasizes further that regulations must be based on the best available science and that the rulemaking process must allow for public participation and an open exchange of ideas. The NPS has developed this rule in a manner consistent with these requirements.

Regulatory Flexibility Act (RFA)

This rule will not have a significant economic effect on a substantial number of small entities under the RFA (5 U.S.C. 601 et seq.). No small entities will be directly regulated by the rule, which only modifies regulations affecting visitor use of ORVs in certain areas of the park. The roads that will be closed to OHV and street-legal ATV use only account for 25 of 295 miles (or approximately eight percent) of GMP roads open to motor vehicle use in the recreation area. Currently, there are no authorized guiding companies that use OHVs and street-legal ATVs on the roads that will be closed to those vehicles.

Congressional Review Act

This rulemaking is not a major rule under 5 U.S.C. 804(2). This rulemaking:

(a) Does not have an annual effect on the economy of $100 million or more.

(b) Will not cause a major increase in costs or prices for consumers, individual industries, Federal, State, or local government agencies, or geographic regions.

(c) Does not have significant adverse effects on competition, employment, investment, productivity, innovation, or the ability of U.S.-based enterprises to compete with foreign-based enterprises.

Unfunded Mandates Reform Act

This rulemaking does not impose an unfunded mandate on State, local, or Tribal governments or the private sector of more than $100 million per year. The rulemaking does not have a significant or unique effect on State, local or Tribal governments or the private sector. It addresses public use of national park lands and imposes no requirements on other agencies or governments. A statement containing the information required by the Unfunded Mandates Reform Act (2 U.S.C. 1531 et seq.) is not required.

Takings (Executive Order 12630)

This rulemaking does not effect a taking of private property or otherwise have takings implications under Executive Order 12630. A takings implication assessment is not required.

Federalism (Executive Order 13132)

Under the criteria in section 1 of Executive Order 13132, the rulemaking does not have sufficient federalism implications to warrant the preparation of a federalism summary impact statement. This rulemaking only affects use of federally administered lands and waters. It has no direct effects on other areas. A federalism summary impact statement is not required.

Civil Justice Reform (Executive Order 12988)

This rulemaking complies with the requirements of Executive Order 12988. This rulemaking:

(a) Meets the criteria of section 3(a) requiring that all regulations be reviewed to eliminate errors and ambiguity and be written to minimize litigation; and

(b) Meets the criteria of section 3(b)(2) requiring that all regulations be written in clear language and contain clear legal standards.

Consultation With Indian Tribes (Executive Order 13175 and Department Policy)

The Department of the Interior strives to strengthen its government-to-government relationship with Indian Tribes through a commitment to consultation with Indian Tribes and recognition of their right to self-governance and Tribal sovereignty. We have evaluated this rule under the criteria in Executive Order 13175 and under the Department's consultation policy and have determined that Tribal consultation on the rule is not required because the rule will have no substantial direct effect on federally recognized Indian Tribes. In support of the Department of Interior and NPS commitment for government-to-government consultation with the 19 Native American Tribes and bands associated with the recreation area, and as a reflection of the shared boundary of the recreation area and the Navajo Nation, the NPS has engaged in a continuing process of consultation with these Tribes and bands. This consultation has taken the form of bimonthly newsletters, in-person meetings with chapter houses, informal email updates, and formal update letters.

Paperwork Reduction Act (PRA)

This rule contains no new information requirements that will affect the currently approved information collection. (NPS Special Park Use Permits NPS Form 10-933—OMB Control Number 1024-0026). By using NPS Form 10-933 this action will cause a net increase of 3,000 respondents and 750 burden hours. In accordance with 5 CFR 1320.10, the agency may continue to conduct or sponsor this collection of information while the submission is pending at OMB. Based on the anticipated net increase, we expect that the overall respondent burden for this collection will be 83,542 responses totaling 23,640 annual burden hours. The NPS did not receive any public comments related to this information collection during the 60-day public comment period.

Title of Collection: Special Park Use Applications, portions of 36 CFR 1-7, 13, 20, and 34.

OMB Control Number: 1024-0026.

Form Number: NPS Forms 10-930, 10-930c, 10-930s, 10-930q, 10-931, 10-932, 10-933, 10-934.

Type of Review: Revision of a currently approved collection.

Respondents/Affected Public: Individuals/households (licensed anglers drawn from three representative U.S. States).

Total Estimated Number of Annual Respondents: 83,542.

Total Estimated Number of Annual Responses: 83,542.

Estimated Completion Time per Response: Varies from 15 minutes to 30 minutes (depending on the activity).

Total Estimated Number of Annual Burden Hours: 23,640.

Respondent's Obligation: Required to obtain or retain a benefit.

Frequency of Collection: On occasion.

Total Estimated Annual Nonhour Burden Cost: $6,265,650 for application fees.

An agency may not conduct or sponsor and a person is not required to respond to a collection of information unless it displays a currently valid OMB control number.

National Environmental Policy Act of 1969 (NEPA)

This rule constitutes a major Federal action significantly affecting the quality of the human environment. We have prepared the FEIS and Revised ROD in compliance with NEPA. These documents are available online at https://parkplanning.nps.gov/glca by clicking any of the links entitled “Off-road Vehicle Management Plan/Environmental Impact Statement” and then the link entitled “Document List.”

Effects on the Energy Supply (Executive Order 13211)

This rule is not a significant energy action under the definition in Executive Order 13211. A Statement of Energy Effects is not required.

List of Subjects in 36 CFR Part 7

National parks, Reporting and recordkeeping requirements.

In consideration of the foregoing, the National Park Service amends 36 CFR part 7 as follows:

PART 7—SPECIAL REGULATIONS, AREAS OF THE NATIONAL PARK SYSTEM

1. The authority citation for part 7 continues to read as follows:

Authority: 54 U.S.C. 100101, 100751, 320102; Sec. 7.96 also issued under D.C. Code 10-137 and D.C. Code 50-2201.07.

2. Amend § 7.70 by:

a. Removing and reserving paragraph (f)(2)(i);

b. In paragraph (f)(3)(ii), removing the last sentence;

c. In table 1 to paragraph (f)(3)(ii):

i. Adding, at the top of the table, entries for “Bullfrog North” and “Bullfrog South”;

ii. Revising the entry for “Lone Rock Beach Play Area”; and

iii. Removing the entry for “Bullfrog North and South”;

d. Adding paragraphs (f)(3)(iii) and (iv);

e. Revising table 2 to paragraph (f)(4)(i); and

f. Revising paragraphs (f)(4)(ii) and (f)(6)(ii).

The revisions and additions read as follows:

* * * * *

(f) * * *

(3) * * *

(ii) * * *

Table 1 to Paragraph (f)(3)(ii)
Designated area or route for off-road motor vehicle use | Approximate size | Management prescriptions
Bullfrog North | 860 acres | • Street-legal ATVs allowed with ORV permit from March 2-October 31.
|  | • Conventional motor vehicles allowed with ORV permit year-round.
|  | • 15 mph speed limit (unless otherwise posted).
|  | • Quiet hours between 10 p.m. and 6 a.m. or as designated by superintendent.
|  | • Vehicle-free zone as posted.
Bullfrog South | 1,410 acres | • Street-legal ATVs allowed with ORV permit from March 2-October 31.
|  | • Conventional motor vehicles allowed with ORV permit year-round.
|  | • 15 mph speed limit (unless otherwise posted).
|  | • Quiet hours between 10 p.m. and 6 a.m. or as designated by superintendent.
|  | • Vehicle-free zone as posted.
* * * * * * *
Lone Rock Beach Play Area | 180 acres | • Conventional motor vehicles, street-legal ATVs, and OHVs allowed with ORV permit.
|  | • OHVs required to display a red or orange safety flag at least six by 12 inches in size that is located at least eight feet off the ground, or at least 18 inches above the top of the protective headgear of a motorcycle or dirt bike operator.
|  | • Quiet hours between sunset and sunrise or as lengthened by the superintendent.
* * * * * * *

(iii) Certain areas designated in table 1 to paragraph (f)(3)(ii) will close and open to off-road motor vehicle use pursuant to the provisions in this paragraph (f)(3)(iii).

(A) The superintendent will identify lake elevation levels for each of the following areas designated in table 1 to paragraph (f)(3)(ii): Lone Rock Beach, Blue Notch, Bullfrog North, Bullfrog South, Crosby Canyon, Dirty Devil, Farley Canyon, Hite Boat Ramp, Red Canyon, Stanton Creek, and White Canyon.

(B) The superintendent will use hydrologic data from the United States Geological Survey and the Bureau of Reclamation to identify the lake elevation levels, which would be subject to change based upon public health and safety, natural and cultural resource protection, and other management activities and objectives. The superintendent will notify the public of the lake elevation levels by publishing them on the website of the recreation area and in the superintendent's compendium (or written compilation) of discretionary actions referred to in 36 CFR 1.7(b).

(C) If the lake elevation drops below the identified level for a designated area and remains below the identified level for seven consecutive days, the superintendent will close the designated area to off-road motor vehicle use. If the lake elevation increases above the identified level for a designated area and remains above the identified level for seven consecutive days, the superintendent will open the designated area to off-road motor vehicle use. The superintendent will notify the public that a designated area has been closed or opened to off-road motor vehicle use within 14 days after the expiration of the seven-day waiting period, by publishing a notice of the management action on the website of the recreation area and in the superintendent's compendium.

(D) The National Park Service will install signs at each designated area notifying the public that it is opened or closed to off-road motor vehicle use. When a designated area is closed because lake elevations have dropped, the superintendent will consider additional steps to prevent off-road motor vehicle use in the area, such as the installation of gates. Motor vehicle use on a GMP road may continue within a closed designated area at the discretion of the superintendent, and subject to the rules for operating a motor vehicle on such roads in this paragraph (f).

(iv) Off-road motor vehicle use in any of the areas designated in table 1 to paragraph (f)(3)(ii), except for Lone Rock Beach, Lone Rock Beach Play Area and Ferry Swale, must be for the purpose of traveling from a GMP road to the shoreline, and back.

(4) * * *

(i) * * *

Table 2 to Paragraph (f)(4)(i)
Type of motor vehicle | Allowed on paved GMP roads | Allowed on unpaved GMP roads outside the Orange Cliffs Special Management Unit | Allowed on unpaved GMP roads within the Orange Cliffs Special Management Unit
Conventional motor vehicle | Yes | Yes | Yes.
Street-legal ATV | Yes (except for the Lees Ferry Developed Area) | Yes (except for the GMP roads identified in paragraph (f)(4)(ii)) | No.
OHV | No | Yes (except for the GMP roads identified in paragraph (f)(4)(ii)) | No.

(ii) Street-legal ATVs and OHVs are not allowed on the following unpaved GMP roads identified in the Recreation & Resource Utilization Zone, as defined in the 1979 General Management Plan for the recreation area:

(A) Unnamed road near Dry Mesa/Sheep's Canyon near Hite, sometimes referred to as Dry Mesa Road (approximately 4.31 miles).

(B) Road #2/95 Spur near Hite, also known as Dirty Devil Spur (approximately 1.14 miles).

(C) Cove Canyon Spur Road near Hite (approximately 0.65 miles).

(D) Flint Trail Spur Road near Hite, also known as Waterhole Flat Spur #1 Road and Dark Canyon Overlook Road (approximately 0.72 miles).

(E) Ticaboo Mesa Road near Bullfrog (approximately 1.45 miles).

(F) Muley Point Road (approximately 1.26 miles).

(G) Johns Canyon Road near Muley Point (approximately 7.49 miles).

* * * * *

(6) * * *

(ii) The superintendent will provide public notice of all such actions through one or more of the methods listed in § 1.7 of this chapter, and through publication on the recreation area website.

* * * * *

Shannon A. Estenoz,
Assistant Secretary for Fish and Wildlife and Parks.

[FR Doc. 2025-00509 Filed 1-10-25; 8:45 am]

BILLING CODE 4312-52-P